DEPARTMENT OF COMMERCE

National Oceanic and Atmospheric Administration

50 CFR Part 622

[Docket No. 121004515-3608-02; RTID 0648-XD408]

Fisheries of the Caribbean, Gulf of Mexico, and South Atlantic; Re-Opening of the Commercial Sector for Red Snapper in the South Atlantic

AGENCY: National Marine Fisheries Service (NMFS), National Oceanic and Atmospheric Administration (NOAA), Commerce.

ACTION: Temporary rule; re-opening.

SUMMARY: NMFS announces the re-opening of the commercial sector for red snapper in the exclusive economic zone (EEZ) of the South Atlantic through this temporary rule. The most recent data for commercial landings of red snapper indicate the commercial annual catch limit (ACL) for the 2023 fishing year has not yet been reached. Therefore, NMFS re-opens the commercial sector to harvest red snapper in the South Atlantic EEZ for 4 days. The purpose of this temporary rule is to allow for the red snapper commercial ACL to be harvested while minimizing the risk of exceeding the commercial ACL.

DATES: This temporary rule is effective from 12:01 a.m. eastern time on October 6, 2023, until 12:01 a.m. eastern time October 10, 2023.

FOR FURTHER INFORMATION CONTACT: Mary Vara, NMFS Southeast Regional Office, telephone: 727-824-5305, email: mary.vara@noaa.gov.

SUPPLEMENTARY INFORMATION: The snapper-grouper fishery of the South Atlantic includes red snapper and is managed under the Fishery Management Plan for the Snapper-Grouper Fishery of the South Atlantic Region (FMP). The FMP was prepared by the South Atlantic Fishery Management Council (Council) and is implemented by NMFS under the authority of the Magnuson-Stevens Fishery Conservation and Management Act (Magnuson-Stevens Act) by regulations at 50 CFR part 622. All weights in this temporary rule are given in round weight.

The commercial ACL for red snapper in the South Atlantic is 124,815 lb (56,615 kg) as specified at 50 CFR 622.193(y)(1).

Under 50 CFR 622.193(y)(1), NMFS is required to close the commercial sector for red snapper when the commercial ACL is reached, or is projected to be reached, by filing a notification to that effect with the Office of the Federal Register. For the 2023 fishing year, NMFS had already projected that commercial landings of red snapper would reach the commercial ACL on August 18, 2023, and therefore closed commercial harvest for the rest of the 2023 fishing year on that date (88 FR 55585, August 16, 2023). However, a recent update of commercial landings data indicates that the commercial ACL for red snapper was not reached on August 18, 2023.

In accordance with 50 CFR 622.8(c), NMFS temporarily re-opens the commercial sector for red snapper on October 6, 2023. The commercial sector will be open for 4 days or through October 9, 2023, to allow for the commercial ACL to be reached. The commercial sector will close again on October 10, 2023, and remain closed through December 31, 2023. For the 2024 fishing year, unless otherwise specified, the commercial season will begin on the second Monday in July (50 CFR 622.183(b)(5)(i)). NMFS has determined that this re-opening will allow for an additional opportunity to commercially harvest red snapper while reducing the risk of exceeding the commercial ACL.

The operator of a vessel with a valid Federal commercial vessel permit for South Atlantic snapper-grouper having red snapper on board must have landed and bartered, traded, or sold such red snapper prior to 12:01 a.m., eastern time, on October 10, 2023. During the subsequent commercial closure from October 10, 2023, through December 31, 2023, all sale or purchase of red snapper is prohibited. Because the recreational sector closed on July 16, 2023 (88 FR 33838, May 25, 2023), after the commercial closure that is effective on October 10, 2023, all harvest and possession of red snapper in or from the South Atlantic EEZ is prohibited for the remainder of the 2023 fishing year.

On and after the effective date of the closure notification, all sale or purchase of red snapper is prohibited. This prohibition on the harvest, possession, sale or purchase applies in the South Atlantic on a vessel for which a valid Federal commercial or charter vessel/headboat permit for South Atlantic snapper-grouper has been issued, regardless if such species were harvested or possessed in state or Federal waters (50 CFR 622.193(y)(1) and 622.181(c)(2)).

Classification

NMFS issues this action pursuant to section 305(d) of the Magnuson-Stevens Act. This action is taken under 50 CFR 622.8(c), issued pursuant to section 304(b) of the Magnuson-Stevens Act, and is exempt from review under Executive Order 12866.

Pursuant to 5 U.S.C. 553(b)(B), there is good cause to waive prior notice and an opportunity for public comment on this action, as notice and comment is unnecessary. Such procedure is unnecessary, because the regulations associated with the commercial ACL of red snapper and a re-opening to provide an opportunity for the commercial ACL to be harvested have already been subject to notice and public comment, and all that remains is to notify the public of the commercial sector re-opening.

For these same reasons, the Assistant Administrator for Fisheries also finds good cause to waive the 30-day delay in the effectiveness of this action under 5 U.S.C. 553(d)(3).

Authority: 16 U.S.C. 1801 et seq.

Dated: September 29, 2023.
Jennifer M. Wallace,
Acting Director, Office of Sustainable Fisheries, National Marine Fisheries Service.

[FR Doc. 2023-22048 Filed 9-29-23; 4:15 pm]

BILLING CODE 3510-22-P